DEPARTMENT OF TRANSPORTATION

Federal Highway Administration

Buy America Waiver Notification

AGENCY: Federal Highway Administration (FHWA), DOT.

ACTION: Notice.

SUMMARY: This notice provides information regarding FHWA's finding that a Buy America waiver is appropriate for iron and steel components of Georgia Ports Authority (GPA)-procured Rail Mounted Gantry (RMG) cranes that will increase intermodal capacity at the Garden City Terminal in Garden City, Georgia. These iron and steel components are not manufactured (from melting to coating) in the United States in sufficient and reasonably available quantities and of a satisfactory quality. This notice follows FHWA's November 20, 2017, notice finding that a Buy America waiver is appropriate for 33 specific iron and steel components of the GPA Project by adding new items to the list of waived products.

DATES: The date of the waiver is December 29, 2017.

FOR FURTHER INFORMATION CONTACT: For questions about this notice, please contact Mr. Gerald Yakowenko, FHWA Office of Program Administration, (202) 366-1562, or via email at Gerald.Yakowenko@dot.gov. For legal questions, please contact Mr. Jomar Maldonado, FHWA Office of the Chief Counsel, 202-366-1373, or via email at Jomar.Maldonado@dot.gov. Office hours for the FHWA are from 8:00 a.m. to 4:30 p.m., E.T., Monday through Friday, except Federal holidays.

SUPPLEMENTARY INFORMATION:

Electronic Access

An electronic copy of this document may be downloaded from the Federal Register's home page at: http://www.archives.gov and the Government Publishing Office's database at: http://www.access.gpo.gov/nara. Comments may be submitted to FHWA's Buy America website for this waiver at: https://www.fhwa.dot.gov/construction/contracts/waivers.cfm?id=150.

Background

The FHWA's Buy America policy in 23 CFR 635.410 requires a domestic manufacturing process for any steel or iron products (including protective coatings) that are permanently incorporated in a Federal-aid construction project. The regulation also provides for a waiver of the Buy America requirements when satisfactory quality domestic steel and iron products are not sufficiently available (non-availability). This notice provides information regarding FHWA's finding that a Buy America waiver is appropriate for iron and steel components of eight RMG cranes that will be procured by GPA to increase intermodal capacity at the Garden City Terminal in Garden City, Georgia, due to non-availability.

On November 20, 2017, FHWA issued a Buy America waiver for 33 components of the Garden City Terminal Project (82 FR 55153). In response to this waiver, GPA contacted the FHWA with additional information about project components that are not manufactured in the U.S. in a manner that the iron and steel complies with FHWA's Buy America requirements. The GPA identified six categories of RMG crane components that are not domestically available: (1) Trolley components; (2) bogie components; (3) trolley structures; (4) bogie steel structures; (5) E-room structure, cab, and electrical components; and (6) head block and spreader bar. Of these components, only the trolley components and bogie components were identified in the November 20 waiver. The FHWA received no additional comments in response to the November 20 waiver publication. Accordingly, FHWA waives the Buy America requirements for these six categories of components. This adds trolley structures, bogie steel structures, E-room structure, cab, and electrical components, and the head block and spreader bar to the list of waived products. Like the November 20 waiver, this limited waiver does not include steel and iron components of the RMG cranes that are available with steel and iron produced domestically, such as the steel gantry structure.

This project will be completed under a Fostering Advancements in Shipping and Transportation for the Long-term Achievement of National Efficiencies, Significant Freight, and Highway Projects FY 2016 grant award (commonly referred to as FASTLANE grants).

In accordance with the provisions of section 117 of the SAFETEA-LU Technical Corrections Act of 2008 (Pub. L. 110-244, 122 Stat. 1572), FHWA is providing this notice as its finding that a waiver of Buy America requirements is appropriate. The FHWA invites public comment on this finding for an additional 15 days following the effective date of the finding. Comments may be submitted to FHWA's website via the link provided to the waiver page noted above.

Authority: 23 U.S.C. 313; Public Law 110-161, 23 CFR 635.410.

Issued on: December 22, 2017.
Brandye L. Hendrickson,
Acting Administrator, Federal Highway Administration.

[FR Doc. 2017-28150 Filed 12-26-17; 11:15 am]

BILLING CODE 4910-22-P